DEPARTMENT OF HOMELAND SECURITY

Coast Guard

46 CFR Part 148

[USCG-2009-0091]

RIN 1625-AB47

Bulk Solid Hazardous Materials: Harmonization With the International Maritime Solid Bulk Cargoes (IMSBC) Code

AGENCY: Coast Guard, DHS.

ACTION: Rule; information collection approval.

SUMMARY: On October 19, 2010, the Coast Guard amended its regulations governing the carriage of solid hazardous materials in bulk to allow use of the IMSBC Code as an equivalent form of compliance. The amendment triggered information collection requirements affecting the Special Permits issued by the Coast Guard that allow the carriage of hazardous bulk solid materials not addressed in the amended regulations. This notice announces that the collection of information has been approved by the Office of Management and Budget (OMB) and may now be enforced. The OMB control number is 1625-0025.

DATES: The collection of information requirement under 46 CFR part 148 will be enforced beginning February 15, 2011.

FOR FURTHER INFORMATION CONTACT: If you have questions about this document, contact Mr. Richard Bornhorst at 202-372-1426 or Richard.C.Bornhorst@uscg.mil. If you have questions about viewing the docket (USCG-2009-0091), call Ms. Renee V. Wright, Program Manager, Docket Operations, telephone 202-366-9826.

SUPPLEMENTARY INFORMATION: On January 1, 2011, compliance with the IMSBC Code became mandatory for all vessels subject to the International Convention for the Safety of Life at Sea (SOLAS), 1974, as amended, that carry bulk solid cargoes other than grain. The final rule (75 FR 64586) allows use of the IMSBC Code as an alternate form of compliance with 46 CFR part 148, subject to conditions and limitations. The rule reduces the need for the current Special Permits for the carriage of certain solid hazardous materials in bulk.

The Coast Guard issues Special Permits as part of its mission to ensure maritime safety and facilitate U.S. commerce. To ensure that the carriage requirements imposed by the Special Permit are sufficient and that the permit holder is complying with the terms of the permit, the Coast Guard requires the submission of information concerning the history of shipments made under the terms of the Special Permit.

With the exception of this collection of information, the Bulk Solid Hazardous Materials: Harmonization With the International Maritime Solid Bulk Cargoes (IMSBC) Code rule became effective on January 1, 2011. Under the Paperwork Reduction Act of 1995 (44 U.S.C. 3501-3520), an agency may not conduct or sponsor a collection of information until the collection is approved by OMB. Accordingly, the preamble to the final rule stated that the Coast Guard would not enforce the collection of information requirements occurring under 46 CFR part 148 until the collection of information request was approved by OMB, and also stated that the Coast Guard would publish a notice in the Federal Register announcing that OMB approved and assigned a control number for the requirement.

The Coast Guard submitted the information collection request to OMB for approval in accordance with the Paperwork Reduction Act of 1995. On January 28, 2011, OMB approved the collection of information and assigned the collection OMB Control Number 1625-0025 entitled “Carriage of Bulk Solids Requiring Special Handling—46 CFR 148”. The approval for this collection of information expires on January 31, 2014. A copy of the OMB notice of action is available in our online docket (USCG-2009-0091) at http://www.regulations.gov.

Dated: February 7, 2011.
F.J. Sturm,
Acting Director of Commercial Regulations and Standards, U.S. Coast Guard.

[FR Doc. 2011-3322 Filed 2-14-11; 8:45 am]

BILLING CODE 9110-04-P